POSTAL SERVICE

39 CFR Part 111

Express Mail Open and Distribute and Priority Mail Open and Distribute Changes and Updates

AGENCY: Postal Service™.

ACTION: Proposed rule.

SUMMARY: The Postal Service proposes to revise its standards to reflect changes and updates for Express Mail® Open and Distribute and Priority Mail® Open and Distribute to improve efficiencies in processing and to control costs.

DATES: Submit comments on or before March 1, 2010.

ADDRESSES: Mail or deliver written comments to the Manager, Mailing Standards, U.S. Postal Service, 475 L'Enfant Plaza, SW., Room 3436, Washington, DC 20260-3436. You may inspect and photocopy all written comments at USPS® Headquarters Library, 475 L'Enfant Plaza, SW., 11th Floor N, Washington, DC, between 9 a.m. and 4 p.m., Monday through Friday. E-mail comments, containing the name and address of the commenter, may be sent to: MailingStandards@usps.gov, with a subject line of “Open and Distribute Comments.” Faxed comments are not accepted.

FOR FURTHER INFORMATION CONTACT: Karen Key, 202-268-7492 or Garry Rodriguez, 202-268-7281.

SUPPLEMENTARY INFORMATION: The Open and Distribute feature of Express Mail and Priority Mail service allows customers to expedite the transportation of shipments of other classes of mail to destination facilities using Express Mail or Priority Mail service.

Currently, for customers using USPS-provided letter trays for Priority Mail Open and Distribute, the Postal Service provides the option to use sacks, USPS-supplied tray boxes, or Label 23, an adhesive label which must be affixed to the outside of the letter tray. Tray boxes were introduced April 6, 2009, to address Open and Distribute customers' concerns that a USPS-provided letter tray sleeve might not maintain the integrity of all mail inside a letter tray during processing. Customers now have the option to place their trays in either sacks or Open and Distribute tray boxes, which are more secure. The Open and Distribute tray boxes are provided free of charge by the Postal Service to all Open and Distribute customers and are available for both half-size and full-size trays. Customers using the customer-supplied containers must affix the appropriate USPS-supplied tag (e.g., Tag 161, Tag 190). Label 23 is no longer needed since the letter trays will be enclosed in sacks or tray boxes and the Postal Service proposes to discontinue its use.

The Postal Service also proposes to discontinue the optional use of facsimile Tag 190, Priority Mail Open and Distribute—Destination Delivery Unit. Customers will now be required to use the USPS-supplied Tag 190, which is pink and easy to identify. This change will help to ensure accurate and efficient processing of Open and Distribute containers.

When presenting a mailing, Open and Distribute customers have always been required to leave containers unsealed until the business mail entry verification and acceptance of the contents have been completed, provide PS Form 3152, Confirmation Services Certification, and not exceed the 70 pound weight limit per container. We also propose to update the standards to reflect these requirements.

Although we are exempt from the notice and comment requirements of the Administrative Procedure Act [5 U.S.C. 553 (b), (c)], regarding proposed rulemaking by 39 U.S.C. 410(a), the Postal Service invites comments on the following proposed revision of the Mailing Standards of the United States Postal Service, Domestic Mail Manual, incorporated by reference in the Code of Federal Regulations. See 39 CFR part 111.

List of Subjects in 39 CFR Part 111

Administrative practice and procedure, Postal Service.

Accordingly, the Postal Service proposes to amend 39 CFR part 111 as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM®) as follows:

* * * * *

700 Special Standards

* * * * *

705 Advanced Preparation and Special Postage Payment Systems

* * * * *

16.0 Express Mail Open and Distribute and Priority Mail Open and Distribute

16.1 Prices and Fees

16.1.1 Basis of Price

[Add new second sentence to 16.1.1 to clarify the maximum weight as follows:]

* * * The maximum weight for each container is 70 pounds.* * *

* * * * *

16.1.5 Payment Method

[Revise the third sentence of 16.1.5 to eliminate Label 23 as follows:]

* * * Priority Mail postage must be affixed to or hand-stamped on green Tag 161, pink Tag 190, or to the Open and Distribute tray box, or be part of the address label.

* * * * *

16.2 Basic Standards

16.2.1 Description of Express Mail Open and Distribute and Priority Mail Open and Distribute

[Revise the second sentence of 16.2.1 and add a new third sentence to clarify the requirement to leave containers unsealed and present a PS Form 3152 as follows:]

* * * Mailers prepare the mailings according to standards for the enclosed class of mail and enclose the mail in containers for expedited service as either Express Mail Open and Distribute or Priority Mail Open and Distribute. The containers must be presented unsealed, with the affixed barcoded address label and applicable tag, to the Business Mail Entry Unit or authorized USPS facility with a completed PS Form 3152, Confirmation Services Certification, by the critical entry time for USPS shipment under 16.0. * * *

* * * * *

16.5 Preparation

* * * * *

16.5.4 Tags 161 and 190—Priority Mail Open and Distribute

[Revise the first sentence of the introductory paragraph of 16.5.4 to remove the optional use of facsimiles as follows:]

Tag 161 and Tag 190 provide a place to affix Priority Mail postage and the address label for the destination facility. * * *

[Revise 16.5.4a by adding a new second sentence as follows:]

a. * * * This tag also must be affixed to containers used for Priority Mail Open and Distribute shipments prepared under 16.5.1c or 16.5.1d.

[Revise the second sentence in 16.5.4b to remove the option of a facsimile to read as follows:]

b. * * * This tag also must be affixed to containers used for Priority Mail Open and Distribute shipments prepared under 16.5.1c or 16.5.1d.

[Revise heading of 16.5.5 to read as follows:]

16.5.5 Tray Boxes—Express Mail Open and Distribute and Priority Mail Open and Distribute

[Revise 16.5.5 to read as follows:]

As an alternative to sacks for Express Mail Open and Distribute and Priority Mail Open and Distribute shipments, unless prepared under 16.5.1c or 16.5.1d, mailers may use USPS-supplied tray boxes for this service. Mailers must place a 1-foot or 2-foot letter tray into the appropriate size tray box.

16.5.6 Address Labels

[Revise the first sentence of 16.5.6 by removing Label 23 as follows:]

In addition to Tag 157, Tag 161, or Tag 190, USPS-supplied containers and envelopes and mailer-supplied containers used for Express Mail Open and Distribute or Priority Mail Open and Distribute must bear an address label that states “OPEN AND DISTRIBUTE AT:” followed by the facility name. * * *

* * * * *

16.6 Enter and Deposit

[Delete the heading 16.6.1, Verification and Entry, and move text under 16.6. Revise 16.6 to include the requirements to present PS Form 3152 and to leave containers unsealed until verification and acceptance of contents as follows:]

Mailers must prepare Express Mail Open and Distribute and Priority Mail Open and Distribute shipments under 16.2 through 16.5. Shipments must be presented with PS Form 3152, Confirmation Services Certification, to a business mail entry unit (BMEU) or other location designated by the postmaster to accept both the enclosed mail and Priority Mail or Express Mail. Open and Distribute containers must not be sealed until the BMEU verification and acceptance of the contents has been completed. Mailers must present shipments to the BMEU with enough time for acceptance, processing, and dispatch before the facility's critical entry time for Express Mail or Priority Mail.

* * * * *

We will publish an appropriate amendment to 39 CFR 111 to reflect these changes if our proposal is adopted.

Stanley F. Mires,
Chief Counsel, Legislative.

[FR Doc. 2010-1867 Filed 1-28-10; 8:45 am]

BILLING CODE 7710-12-P